DEPARTMENT OF THE INTERIOR

Fish and Wildlife Service

Information Collection To Be Submitted to the Office of Management and Budget (OMB) for Approval Under the Paperwork Reduction Act (PRA)

ACTION: New information collection.

SUMMARY: The U.S. Fish and Wildlife Service (Service) plans to submit the collection of information requirement described below to the Office of Management and Budget (OMB) for approval under the provisions of the Paperwork Reduction Act (PRA). You may obtain copies of the collection requirement and related forms and explanatory material by contacting the Service's Information Collection Clearance Officer at the phone number listed below. The Service is soliciting comment and suggestions on the requirement as described below.

DATES: Interested parties must submit comments on or before November 13, 2000.

ADDRESSES: Interested parties should send comments and suggestions on the requirement to Rebecca A. Mullin, Information Collection Clearance Officer, U.S. Fish and Wildlife Service, 4401 North Fairfax Drive, Suite 222, Arlington, VA 22203, (703) 358-2287 or Rebecca_Mullin@fws.gov E-mail.

FOR FURTHER INFORMATION CONTACT: Jack Hicks, (703) 358-1851, fax (703) 358-1837, or Jack_Hicks @fws.gov E-mail.

SUPPLEMENTARY INFORMATION: Title of Form: NEPA COMPLIANCE CHECKLIST

FWS Form Number: 3-2185

OMB Approval Number: 1018-XXXX The Service will submit to OMB an approval request before collecting information.

Description and Use: The Service administers several grant programs authorized by the Federal Aid in Wildlife Restoration Act, the Federal Aid in Sport Fish Restoration Act, the Anadromous Fish Conservation Act, the Endangered Species Act, the Clean Vessel Act, the Sportfishing and Boating Safety Act, North American Wetlands Conservation Act, the Coastal Wetlands Planning, Protection and Restoration Act, and through other Acts and authorities. The Service uses the information collected to make a determination as to National Environmental Policy Act compliance. The State or other grantee uses the checklist as a guide to general NEPA requirements and it becomes an administrative record to meet their assurances requirements for receiving a grant. Grant applicants provide the information requested in the NEPA Compliance Checklist in order to qualify to receive benefits in the form of grants for purposes outlined in the applicable law. This form is designed to cause the minimum impact in the form of hourly burden on grant applicants and still get all the required information. Only about 3 percent of the Service's applicants for either a new grant or for an amendment to an existing grant will meet the criteria, and need to complete the NEPA Compliance Checklist.

SUPPLEMENTAL INFORMATION: The Service plans to submit the following information collection requirements to OMB for review and approval under the Paperwork Reduction Act of 1995, Public Law 104-13. Comments are invited on: (1) Whether the collection of information is necessary for the proper performance of the functions of the agency, including whether the information will have practical utility; (2) the accuracy of the agency's estimates of burden of the collection of information; (3) ways to enhance the quality, utility, and clarity of the information to be collected; and, (4) ways to minimize the burden of collection of information on respondents, including through the use of appropriate automated, electronic, mechanical, or other technological collection techniques or other forms of information technology.

Frequency: Generally annually.

Description of Respondents: State Government, territorial (the Commonwealth of Puerto Rico, the District of Columbia, the Commonwealth of the Northern Mariana Islands, Guam, the Virgin Islands, and American Samoa), local governments, and others receiving grant funds.

Completion Time and Annual Response and Burden Estimate
Form name | Completion time per checklist | Annual response | Annual burden
NEPA Compliance Checklist | ½ | 160 | 80

Dated: September 5, 2000.
Rebecca A. Mullin,
U.S. Fish and Wildlife Service Information Collection Officer.

[FR Doc. 00-23251 Filed 9-11-00; 8:45 am]

BILLING CODE 4310-55-M